Title 3—

The President

Proclamation 10960 of July 25, 2025

Captive Nations Week, 2025

By the President of the United States of America

A Proclamation

This Captive Nations Week, I offer my heartfelt support to every person living under a totalitarian regime and I reaffirm my commitment to advancing a new era of peace where freedom is cherished, sovereignty is respected, and every nation can live without fear of tyranny or oppression.

In 1959, President Dwight D. Eisenhower first proclaimed Captive Nations Week to counter the emerging threat of communism and declare America's resolve to defend the fundamental rights of free speech, religious liberty, and self-government. As President, I continue that work today, as far too often, oppressive regimes still silence dissent and persecute their own citizens for practicing their faith.

The Religious Liberty Commission, the White House Faith Office, and the Department of State's Office of International Religious Freedom are working together to expand and strengthen America's efforts to defend religious freedom around the world. In the United States, we will always uphold the simple truth that our rights do not come from Government, but from God in Heaven. We believe that legitimate governments derive their power from the consent of the governed and that freedom of religion forms the foundation of free Government.

Guided by these truths, my Administration continues to work for a more stable and peaceful world. We remain fiercely committed to working with our allies and adversaries alike to pursue strong diplomacy, resolve conflicts, and forge lasting peace everywhere.

America stands with all people who resist tyranny, defend their faith, and fight for the God-given rights of every human being. We will continue to lead with strength, speak truth in the face of oppression, and advance the cause of peace, liberty, and human dignity across the globe.

The Congress, by Joint Resolution approved July 17, 1959 (73 Stat. 212), has authorized and requested the President to issue a proclamation designating the third week of July of each year as “Captive Nations Week.”

NOW, THEREFORE, I, DONALD J. TRUMP, President of the United States of America, by virtue of the authority vested in me by the Constitution and the laws of the United States, do hereby proclaim July 20 through July 26, 2025, as Captive Nations Week. I call upon all Americans to reaffirm our commitment to supporting those around the world striving for liberty, justice, and the rule of law with appropriate ceremonies and activities.

IN WITNESS WHEREOF, I have hereunto set my hand this twenty-fifth day of July, in the year of our Lord two thousand twenty-five, and of the Independence of the United States of America the two hundred and fiftieth.

[FR Doc. 2025-14691

Filed 7-31-25; 11:15 am]

Billing code 3395-F4-P